NATIONAL SCIENCE FOUNDATION

Business and Operations Advisory Committee; Notice of Meeting

In accordance with the Federal Advisory Committee Act (Pub. L. 92-463, as amended), the National Science Foundation (NSF) announces the following meeting:

Name and Committee Code: Business and Operations Advisory Committee (9556) virtual meeting.

Date and Time: January 21, 2022; 1:00 p.m. to 2:00 p.m. (EST).

Place: National Science Foundation, 2415 Eisenhower Avenue, Alexandria, Virginia, 22314 (Virtual attendance only).

To attend the virtual meeting, please send your request for the meeting link to the following email address: negglest@nsf.gov.

Type of Meeting: Open.

Contact Person: NaChanza Eggleston, National Science Foundation, 2415 Eisenhower Avenue, Alexandria, VA, 22314; Telephone: (703) 292-8100.

Purpose of Meeting: To provide advice concerning issues related to the oversight, integrity, development and enhancement of NSF's business operations.

Agenda

• Welcome/Introductions

• Report of the Subcommittee on Information Technology and Enterprise Architecture Strategy

Dated: December 15, 2021.
Crystal Robinson,
Committee Management Officer.

[FR Doc. 2021-27465 Filed 12-17-21; 8:45 am]

BILLING CODE 7555-01-P